SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new information collection.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer to the following addresses or fax numbers.

(OMB) Office of Management and Budget, Attn: Desk Officer for SSA. Fax: 202-395-6974. E-mail address: OIRA_Submission@omb.eop.gov.

(SSA) Social Security Administration, DCBFM, Attn: Reports Clearance Officer, 1333 Annex Building, 6401 Security Blvd., Baltimore, MD 21235. Fax: 410-965-6400. E-mail address: OPLM.RCO@ssa.gov.

I. The information collections below are pending at SSA. SSA will submit them to OMB within 60 days from the date of this notice. To be sure we consider your comments, we must receive them no later than October 12, 2010. Individuals can obtain copies of the collection instruments by calling the SSA Reports Clearance Officer at 410-965-8783 or by writing to the above e-mail address.

1. Benefit Offset National Demonstration—0960-NEW. SSA is undertaking the Benefit Offset National Demonstration (BOND), a demonstration and evaluation of policy changes and services in the Social Security Disability Insurance (SSDI) program, to obtain strong evidence about the effectiveness of potential solutions that would improve the historically very low rate of return to work among SSDI beneficiaries. Under current law, Social Security beneficiaries lose their SSDI benefit if they have earnings and/or work activity above the threshold of Substantial Gainful Activity (SGA) after completing the Trial Work Period and two-month grace period. The benefit-offset component of this demonstration will reduce benefits by $1 for every $2 in earnings above the BOND threshold, gradually reducing benefits as earnings increase.

The experimental design for BOND will test a benefit offset alone and in conjunction with enhanced work incentives counseling. The central research questions include:

• What is the effect of the benefit offset alone on employment and other outcomes?

• What is the effect of the benefit offset in combination with enhanced work incentives counseling on employment and other outcomes?

The proposed public survey data collections will have four components: An impact study, a cost-benefit analysis, a participation analysis, and a process study. The data collections are a primary source for data to measure the effects of a more generous benefit offset and the provision of enhanced work incentives counseling on SSDI beneficiaries' work efforts and earnings. Ultimately, these data will provide information for researchers, policy analysts, policy makers and the United States Congress on a wide range of program areas. The effects of BOND on the well-being of SSDI beneficiaries could manifest in many dimensions and could be relevant to an array of other public programs. This project offers the first opportunity to obtain reliable measures of these effects based on a nationally representative sample. The long-term indirect benefits of this research are likely to be substantial. Respondents are SSDI beneficiaries, and concurrent SSDI and Supplemental Security Income (SSI) recipients whom we randomly assign to the study (Stage 1), and SSDI beneficiaries who agree to participate in the study (Stage 2).

Type of Request: Request for a new information collection.

Survey | Number of respondents | Frequency of response | Number of responses | Average burden per response (minutes) | Total annual burden (hours)
Baseline Survey | 12,600 | 1 | 12,600 | 41 | 8,610
Interim Survey | 10,080 | 1 | 10,080 | 29 | 4,872
Stage 1 36-month Survey | 8,000 | 1 | 8,000 | 49 | 6,533
Stage 2 36-month Survey | 10,080 | 1 | 10,080 | 60 | 10,080
Key Informant Interviews | 100 | 7 | 700 | 60 | 700
Stage 2 Participant Focus Groups | 600 | 1 | 600 | 90 | 900
Totals | 41,460 |  | 42,060 |  | 31,695

2. Private Printing and Modification of Prescribed Application and Other Forms—20 CFR 422.527—0960-0663. 20 CFR 422.527 of the Code of Federal Regulations requires a person, institution, or organization (third-party entities) to obtain approval from SSA prior to reproducing, duplicating, or privately printing any application or other form established by the agency. SSA collects the information to ensure requests comply with the law and regulations. We also use the information to process requests from third-party entities who want to reproduce, duplicate, or privately print any SSA application or other form owned by SSA. To obtain SSA's approval, entities must make their requests in writing, using their company letterhead, providing the required information set forth in the regulation. SSA employees review the requests and provide approval via e-mail or mail to the third-party entities. The respondents are third-party entities who submit a request to SSA to reproduce, duplicate, or privately print an SSA-owned form.

Type of Request: Extension of an OMB-approved information collection.

Number of Respondents: 10.

Frequency of Response: 15.

Number of Responses: 150.

Average Burden per Response: 8 minutes.

Estimated Annual Burden: 20 hours.

II. SSA has submitted the information collections listed below to OMB for clearance. Your comments on the information collections would be most useful if OMB and SSA receive them within 30 days from the date of this publication. To be sure we consider your comments, we must receive them no later than September 13, 2010. You can obtain a copy of the OMB clearance packages by calling the SSA Reports Clearance Officer at 410-965-8783 or by writing to the above email address.

1. Certificate of Coverage Request—20 CFR 404.1913—0960-0554. The United States has agreements with 24 foreign countries to eliminate double Social Security coverage and taxation where, except for the provisions of the agreement, a worker would be subject to coverage and taxes in both countries. These agreements contain rules for determining the country under whose laws the worker's period of employment is covered, and to which country the worker will pay taxes. The agreements further dictate that, upon the request of the worker or employer, the country under whose system the period of work is covered will issue a certificate of coverage. The certificate serves as proof of exemption from coverage and taxation under the system of the other country. The information we collect assists us in determining a worker's coverage and in issuing a U.S. certificate of coverage as appropriate. Respondents are workers and employers wishing to establish exemption from foreign Social Security taxes.

Type of Request: Revision of an OMB-approved information collection.

Type of respondent | Number of respondents | Frequency of response | Average burden per response (minutes) | Total annual burden (hours)
Individuals | 30,000 | 1 | 30 | 15,000
Private Sector | 20,000 | 1 | 30 | 10,000
Totals | 50,000 |  |  | 25,000

2. Request to Decision Review Board To Vacate the Administrative Law Judge Dismissal of Hearing—20 CFR 405.427—0960-0755. When an administrative law judge (ALJ) dismisses a hearing for a claim for Title II or Title XVI disability payments, the claimant may request to vacate or stop this decision by completing and submitting Form SSA-525 to the SSA Decision Review Board (Board). The Board uses this information to: (1) Establish the continued involvement of the requestor in the claim; (2) consider the requestor's arguments for vacating the dismissal; and (3) vacate or decline to vacate the ALJ's dismissal order. The respondents are SSDI or SSI claimants who are requesting the Board vacate their dismissal order.

Type of Request: Revision of an OMB-approved information collection.

Number of Respondents: 30,000.

Frequency of Response: 1.

Average Burden per Response: 10 minutes.

Estimated Annual Burden: 5,000 hours.

3. Request for Accommodation in Communication Method—0960-0777. In American Council of the Blind, et al. v. Michael Astrue and Social Security Administration, class plaintiffs representing Social Security applicants, beneficiaries, recipients, and representative payees who are blind or visually impaired challenged the adequacy of the communication methods SSA uses in its notices and other communications. Prior to the court's order of October 20, 2009 in American Council of the Blind, SSA offered three modes of communications for blind and visually impaired Social Security recipients: (1) A standard print notice by first-class mail; (2) a standard print notice by first-class mail with a follow-up telephone call; and (3) certified mail. In American Council of the Blind, the court required SSA to offer two additional modes of communication to blind or visually impaired applicants, beneficiaries, recipients, and representative payees: (4) Braille; and (5) Microsoft Word files (on data compact discs).

In American Council of the Blind, the court further ordered SSA to implement Section 504 through 45 CFR 85.51 of the Code of Federal Regulations, meaning SSA must “take appropriate steps to ensure effective communication with applicants, participants, personnel of other Federal entities, and members of the public.” To meet the court's mandates, SSA uses Form SSA-9000, Request for Accommodation in Communication Method, to gather information from blind or visually impaired individuals about why their particular accommodation (other than the five accommodations already offered by the agency) will allow SSA to communicate effectively with them. This form asks respondents to describe the type of accommodation they want, to disclose the condition they have that necessitates the need for a different type of accommodation, and to explain why none of the five methods described above are sufficient for their needs. The respondents are Social Security applicants, beneficiaries, recipients, and representative payees who are blind or visually impaired and are asking SSA to send notices and other communications in an alternative method besides the five modalities we describe in this notice.

Type of Request: Revision of an OMB-approved information collection.

Method of information collection | Number of respondents | Frequency of response | Response time (minutes) | Burden (hours)
Personal Interview (over the phone or in-person) | 2,250 | 1 | 10 | 375
Form (taken or mailed from field office) | 250 | 1 | 15 | 63
Total | 2,500 |  |  | 438

Dated: August 6, 2010.
Faye Lipsky,
Reports Clearance Officer, Center for Reports Clearance, Social Security Administration.

[FR Doc. 2010-19914 Filed 8-11-10; 8:45 am]

BILLING CODE 4191-02-P